OFFICE OF THE UNITED STATES TRADE REPRESENTATIVE

Generalized System of Preferences (GSP): Notice Regarding the 2005 Annual Review for Products

AGENCY: Office of the United States Trade Representative.

ACTION: Notice.

SUMMARY: The Office of the United States Trade Representative (USTR) received petitions in connection with the 2005 annual review to modify the list of products that are eligible for duty-free treatment under the GSP program and to modify the GSP status of certain GSP beneficiary developing countries because of country practices. The list of country practice petitions accepted for review will be announced in the Federal Register at a later date. This notice announces the product petitions that are accepted for further review in the 2005 GSP Annual Review, and sets forth the schedule for comment and public hearing on these petitions, for requesting participation in the hearing, and for submitting pre-hearing and post-hearing briefs.

FOR FURTHER INFORMATION CONTACT: The GSP Subcommittee of the Trade Policy Staff Committee, Office of the United States Trade Representative, 1724 F Street, NW., Room F-220, Washington, DC 20508. The telephone number is (202) 395-6971.

DATES: The GSP regulations (15 CFR Part 2007) provide the schedule of dates for conducting an annual review unless otherwise specified in a Federal Register notice. The current revised schedule follows. Notification of any other changes will be given in the Federal Register.

September 12, 2005: Due date for requests to appear at the USTR Public Hearing and submission of pre-hearing briefs.

September 12, 2005: Due date for providing the name, address, telephone, fax, e-mail address and organization of witnesses.

(September 29, 2005: U.S. International Trade Commission (USITC) scheduled hearings on economic effect on U.S. industries.)

September 30, 2005: USTR's Public Hearing to be held at U.S. International Trade Commission, Main Hearing Room, 500 E Street, SW., Washington, DC 20436, beginning at 10 a.m. Hearing will focus on all products.

October 21, 2005: Due date for submission of post-hearing and rebuttal briefs.

November 2005: USITC scheduled to publish report on products of case nos. 2005-01, and 2005-09 through 2005-13. Comments on USITC report on these products due 10 days after USITC date of publication.

February 2006: USITC will issue a second report on watch case nos. 2005-02 through 2005-08. Comments on this USITC report due 10 days after USITC date of publication.

June 30, 2006: Modifications to the list of articles eligible for duty-free treatment under the GSP resulting from the 2005 Annual Review will be announced on or about June 30, 2006, in the Federal Register, and any changes will take effect on the effective date announced.

SUPPLEMENTARY INFORMATION: The GSP provides for the duty-free importation of designated articles when imported from designated beneficiary developing countries. The GSP is authorized by title V of the Trade Act of 1974 (19 U.S.C. 2461, et seq.), as amended (the “1974 Act”), and is implemented in accordance with Executive Order 11888 of November 24, 1975, as modified by subsequent Executive Orders and Presidential Proclamations.

In a Federal Register notice dated May 9, 2005, USTR announced the deadline for the filing of product and country practice petitions for the 2005 GSP Annual Review to be June 15, 2005 (70 FR 24460). The product petitions received requested changes in the list of eligible products by adding or by waiving the “competitive need limitations” (CNLs) for a country for an eligible article.

The interagency GSP Subcommittee of the Trade Policy Staff Committee (TPSC) has reviewed the product petitions, and the TPSC has decided to initiate a full review of the product petitions listed in Annex I. Annex I to this notice sets forth, for each type of change requested: the case number, the Harmonized Tariff Schedule of the United States (HTS) subheading number, a brief description of the product (see the HTS for an authoritative description available on the U.S. International Trade Commission (USITC) Web site (http://www.usitc.gov/taffairs)), and the petitioner for each petition included in this review. Acceptance of a petition for review does not indicate any opinion with respect to the disposition on the merits of the petition. Acceptance indicates only that the listed petitions have been found eligible for review by the TPSC and that such review will take place.

Opportunities for Public Comment and Inspection of Comments

The GSP Subcommittee of the TPSC invites comments in support of or in opposition to any petition which is included in this Annual Review (Annex I). Submissions should comply with 15 CFR part 2007, except as modified below. All submissions should identify the subject article(s) in terms of the case number and HTS subheading number as shown in Annex I.

Requirements for Submissions

In order to facilitate prompt processing of submissions, USTR strongly urges and prefers electronic e-mail submissions in response to this notice. Hand-delivered submissions will not be accepted. These submissions should be single-copy transmissions in English with the total submission not to exceed 50 single-spaced standard letter-size pages. E-mail submissions should use the following subject line: “2005 GSP Annual Review” followed by the Case Number and HTS subheading number found in the Annex I (for example, 2005-07 9102.19.40) and, as appropriate “Written Comments”, “Notice of Intent to Testify”, “Pre-hearing brief”, “Post-hearing brief” or “Comments on USITC Advice”. (For example, an e-mail subject line might read “2005-07 9102.19.40 Written Comments”.) Documents must be submitted in English in one of the following formats: WordPerfect (.WPD), MSWord (.DOC), or text (.TXT) files. Documents may not be submitted as electronic image files or contain imbedded images (for example, “.JPG”, “.TIF”, “.PDF”, “.BMP”, or “.GIF”). Supporting documentation submitted as spreadsheets are acceptable as Excel files, formatted for printing on 8½ x 11 inch paper. To the extent possible, any data attachments to the submission should be included in the same file as the submission itself, and not as separate files.

If the submission contains business confidential information, a non-confidential version of the submission must also be submitted that indicates where confidential information was redacted by inserting asterisks where material was deleted. In addition, the confidential submission must be clearly marked “BUSINESS CONFIDENTIAL” at the top and bottom of each page of the document. The non-confidential version must also be clearly marked at the top and bottom of each page (either “PUBLIC VERSION” or “NON-CONFIDENTIAL”). Documents that are submitted without any marking might not be accepted or will be considered public documents.

For any document containing business confidential information submitted as an electronic attached file to an e-mail transmission, the file name of the business confidential version should begin with the characters “BC-”, and the file name of the public version should begin with the characters “P-”. The “P-” or “BC-” should be followed by the name of the party (government, company, union, association, etc.) which is making the submission.

E-mail submissions should not include separate cover letters or messages in the message area of the e-mail; information that might appear in any cover letter should be included directly in the attached file containing the submission itself, including the sender's e-mail address and other identifying information. The e-mail address for these submissions is FR0441@USTR.GOV. Documents not submitted in accordance with these instructions might not be considered in this review. If unable to provide submissions by e-mail, please contact the GSP Subcommittee to arrange for an alternative method of transmission.

Public versions of all documents relating to this review will be available for review approximately two weeks after the relevant due date by appointment in the USTR public reading room, 1724 F Street, NW., Washington, DC. Appointments may be made from 9:30 a.m. to noon and 1 p.m. to 4 p.m., Monday through Friday, by calling (202) 395-6186.

Notice of Public Hearing

A hearing will be held by the GSP Subcommittee of the TPSC on September 30, 2005, beginning at 10 a.m. at the U.S. International Trade Commission, Main Hearing Room, 500 E Street, SW., Washington, DC 20436. The hearing will be open to the public and a transcript of the hearing will be made available for public inspection or can be purchased from the reporting company. No electronic media coverage will be allowed.

All interested parties wishing to make an oral presentation at the hearing must submit, following the above “Requirements for Submissions”, the name, address, telephone number, and facsimile number and e-mail address, if available, of the witness(es) representing their organization to Marideth Sandler, the Executive Director of the GSP Program by 5 p.m., September 12, 2005. Requests to present oral testimony in connection with the public hearing must be accompanied by a written brief or statement, in English, and also must be received by 5 p.m., September 12, 2005. Oral testimony before the GSP Subcommittee will be limited to five-minute presentations that summarize or supplement information contained in briefs or statements submitted for the record. Post-hearing briefs or statements will be accepted if they conform with the regulations cited above and are submitted, in English, by 5 p.m., October 21, 2005. Parties not wishing to appear at the public hearing may submit post-hearing written briefs or statements, in English, by 5 p.m., October 21, 2005.

In accordance with sections 503(a)(1)(A) and 503(e) of the 1974 Act and the authority delegated by the President, pursuant to section 332(g) of the Tariff Act of 1930, the U.S. Trade Representative has requested that the USITC provide its advice on the probable economic effect of the following actions on U.S. industries producing like or directly competitive articles and on consumers, as appropriate: (1) The elimination of U.S. import duties for all beneficiary developing countries; (2) the restoration of a country for eligibility for duty-free treatment under the GSP for such article; (3) whether any industry in the United States is likely to be adversely affected by a waiver of the competitive need limits specified in section 503(d)(1) of the 1974 Act for the country specified; and (4) whether designation of certain watches will cause material injury to certain manufacturing and assembly operations in the United States or U.S. insular possessions.

Comments by interested persons on the USITC Report regarding Products of Case Nos. 2005-01, and 2005-09 through 2005-13, prepared as part of the product review, should be submitted by 5 p.m., 10 days after the date of USITC publication of its report in November. Comments by interested persons on the second USITC Report on Watch Case Nos. 2005-02 through 2005-08, also prepared as part of the product review, should be submitted by 5 p.m., 10 days after date of its publication in February 2006.

Marideth Sandler,
Executive Director, Generalized System of Preferences (GSP) Program, Office of the U.S. Trade Representative.

BILLING CODE 3190-W5-P

[FR Doc. 05-16405 Filed 8-17-05; 8:45 am]

BILLING CODE 3190-W5-C